DEPARTMENT OF AGRICULTURE

Forest Service

Shoshone Resource Advisory Committee

AGENCY: Forest Service, USDA.

ACTION: Notice of meeting.

SUMMARY: The Shoshone Resource Advisory Committee (Committee) will hold a meeting on September 19, 2012. The Committee is meeting as authorized under the Secure Rural Schools and Community Self-Determination Act (Pub. L. 110-343) and in compliance with the Federal Advisory Committee Act. The purpose of the meeting is to select projects to recommend for 2012 Title II funds.

DATES: The meeting will be held September 19, 2012, at 9 a.m.

ADDRESSES: The meeting will be held at Big Horn Federal Savings, 643 Broadway, Thermopolis, WY. Written comments should be sent to Olga Troxel, Shoshone National Forest, 808 Meadow Lane, Cody, WY 82414. Comments may also be sent via email to otroxel@fs.fed.us, or via facsimile to 307-578-5112.

All comments, including names and addresses when provided, are placed in the record and are available for public inspection and copying. The public may inspect comments received at Shoshone National Forest, 808 Meadow Lane, Cody, WY 82414. Visitors are encouraged to call ahead to 307-527-6241 to facilitate entry into the building.

FOR FURTHER INFORMATION CONTACT: Olga Troxel, Resource Advisory Committee Coordinator, Shoshone National Forest Supervisor's Office, (307) 578-5164.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Finish reviewing project proposals and select projects to recommend for 2012 SRS Title II funding. Persons who wish to bring related matters to the attention of the Committee may file written statements with the Committee staff before or after the meeting. Public input sessions will be provided.

Dated: August 3, 2012.
Joseph G Alexander,
Forest Supervisor.

[FR Doc. 2012-19496 Filed 8-8-12; 8:45 am]

BILLING CODE 3410-11-P